DEPARTMENT OF HEALTH AND HUMAN SERVICES

Food and Drug Administration

Notice of Listing of Members of the Food and Drug Administration's Senior Executive Service Performance Review Board

AGENCY: Food and Drug Administration, HHS.

ACTION: Notice.

SUMMARY: The Food and Drug Administration (FDA) is announcing the members of the FDA Performance Review Board (PRB). This action is intended to ensure that members of the PRBs are appointed in a manner that provides consistency, stability, and objectivity in performance appraisals, and that notice of the appointment of members of the board be published in the Federal Register.

FOR FURTHER INFORMATION CONTACT: Arlene S. Karr, Rockville Human Resources Center, Department of Health and Human Services (DHHS), 5600 Fishers Lane, Rockville, MD 20857, 301-827-4183.

The following persons will serve on FDA's PRB, which oversees the evaluation of performance appraisals of FDA's Senior Executive Service members in accordance with 5 U.S.C. 4314(c)(4): Jeffrey M. Weber, Chairperson, Richard Diamond, Margaret O'K Glavin,William K. Hubbard, Linda Kahan, Michael Landa, John Marzilli, Melinda K. Plaisier, Linda Tollefson, and Helen Winkle.

Dated: September 30, 2004.
Lester M. Crawford,
Acting Commissioner of Food and Drugs.

[FR Doc. 04-22578 Filed 10-6-04; 8:45 am]

BILLING CODE 4160-01-S